DEPARTMENT OF ENERGY

Federal Energy Regulatory Commission

Combined Notice of Filings #1

Take notice that the Commission received the following electric corporate filings:

Docket Numbers: EC14-67-000.

Applicants: Sabine Cogen, LP.

Description: Application for Authorization for Disposition of Jurisdictional Facilities and Request for Expedited Action of Sabine Cogen, LP.

Filed Date: 3/10/14.

Accession Number: 20140310-5273.

Comments Due: 5 p.m. ET 3/31/14.

Take notice that the Commission received the following electric rate filings:

Docket Numbers: ER14-1136-001.

Applicants: PJM Interconnection, L.L.C.

Description: Errata to Resubmit Original Service Agreement No. 3741 to be effective 12/23/2013.

Filed Date: 3/10/14.

Accession Number: 20140310-5244.

Comments Due: 5 p.m. ET 3/31/14.

Docket Numbers: ER14-1176-001.

Applicants: Southwest Power Pool, Inc.

Description: 2655 Substitute Kansas Municipal Energy Agency NITSA NOA to be effective 1/1/2014.

Filed Date: 3/10/14.

Accession Number: 20140310-5216.

Comments Due: 5 p.m. ET 3/31/14.

Docket Numbers: ER14-1461-000.

Applicants: PJM Interconnection, L.L.C.

Description: Revisions to the OATT Att DD re Capacity Resource Incentives to be effective 5/10/2014.

Filed Date: 3/10/14.

Accession Number: 20140310-5257.

Comments Due: 5 p.m. ET 3/31/14.

Docket Numbers: ER14-1462-000.

Applicants: Ohio Power Company.

Description: Notice of Cancellation of Ohio Power Company First Revised Rate Schedule No. 18.

Filed Date: 3/11/14.

Accession Number: 20140311-5009.

Comments Due: 5 p.m. ET 4/1/14.

Take notice that the Commission received the following electric securities filings:

Docket Numbers: ES14-21-001.

Applicants: AEP Appalachian Transmission Company, Inc, AEP Indiana Michigan Transmission Company, AEP Kentucky Transmission Company, Inc., AEP Southwestern Transmission Company, I,AEP West Virginia Transmission Company, AEP Oklahoma Transmission Company, Inc.

Description: Amended and Restated Application of AEP Appalachian Transmission Company, Inc., et. al.

Filed Date: 3/11/14.

Accession Number: 20140311-5040.

Comments Due: 5 p.m. ET 4/1/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2014.
Nathaniel J. Davis, Sr.,
Deputy Secretary.

[FR Doc. 2014-06037 Filed 3-18-14; 8:45 am]

BILLING CODE 6717-01-P